DEPARTMENT OF TRANSPORTATION

Pipeline and Hazardous Materials Safety Administration

Office of Hazardous Materials Safety; Notice of Application for Special Permits

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before April 5, 2010.

Address Comments to: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC, or at http://regulations.gov.

This notice of receipt of applications for modification of special permit is published in accordance with Part 107 of the Federal hazardous materials transportation law (49 U.S.C. 5 117(b); 49 CFR 1.53(b)).

Issued in Washington, DC, on March 11, 2010.
Delmer F. Billings,
Director, Office of Hazardous Materials, Special Permits and Approvals.

Application No. | Docket No. | Applicant | Regulation(s) affected | Nature of special permits thereof
Modification Special Permits
8815-M |  | Florex Explosives, Inc., Crystal River, FL | 49 CFR 173.62 | To modify the special permit by adding an additional Division 1.5D explosive.
8826-M |  | Phoenix Air Group, Inc., Cartersville, GA | 49 CFR 172.101; 172.204(c)(3); 173.27; 175.30(a)(1); 175.320(b) | To modify the special to reflect the current statutes and regulations changes.
9880-M |  | G.E. Reuter-Stokes, Inc., Twinsburg, OH | 49 CFR 173.302; 175.3; Part 172 Subpart E and F | To modify the special permit to authorize one drop test instead of 5 drop tests every 24 months and in section 8.e. add “e.e. radiation sensor” after “Each packaging manufactured”.
10049-M |  | Martin Transport, Inc., Kilgore, TX | 49 CFR 173.318; 173.338; 173.320; 177.840 | To modify the special permit to authorize in Section 7.2.b to state Design temperature is −320 Deg. F for inner tank.
10869-M |  | Norris Cylinder Company, Longview, TX | 49 CFR 173.301(b); 173.302(a)(5); 173.304(a); 175.3 | To modify the special permit to authorize a new 4130 Modified Cr-Mo steel chemistry; removed the K1C test; replace the one-per-heat flawed cylinder pressure test with a one-per-lot burst test; and add 3 new drawings for pressure 4500, 5000, and 6000 psi with the new steel chemistry.
11489-M |  | TRW, Washington, MI | 49 CFR 172.320; 173.56(b) | To modify the special permit to authorize an additional Division 1.4C explosive article.
11911-M |  | Transfer Flow, Inc., Chico, CA | 49 CFR 178.700 thru 178.819 | To modify the special permit to authorize new part numbers for tank drawings; to add several new refueling systems; to add two new fuel caps; and to add several new fuel tanks to the special permit.
13998-M |  | 3AL Testing Corp., Denver, CO | 49 CFR 172.203(a); 172.302a(b)(2), (4)(5); 180.205(f)(g); 180.209(a), (b)(1)(iv) | To modify the special permit to authorize the use of tare weight to identify DOT 3A/3AA cylinders.
14206-M |  | Digital Wave Corporation, Englewood, CO | 49 CFR 180.205 | To modify the special Corporation permit to authorize the use of tare weight to identify DOT 3A/3AA cylinders.
14808-M |  | Amtrol, Inc., West Warwick, RI | 49 CFR 178.51(b), (f)(1) and (2) and (g) | To modify the special permit to authorize removal of paragraph 7(d)(2) under Operational Controls.
14926-M |  | Lynden Air Cargo, Anchorage, AK | 49 CFR 173.302(f) | To modify the special permit to authorize the removal of the restriction of Human Health care and Veterinary services from the special permit.

[FR Doc. 2010-5897 Filed 3-18-10; 8:45 am]

BILLING CODE 4909-60-M